DEPARTMENT OF DEFENSE

GENERAL SERVICES ADMINISTRATION

NATIONAL AERONAUTICS AND SPACE ADMINISTRATION

48 CFR Chapter 1

Federal Acquisition Circular 2001-08; Introduction

Correction

In rule document 02-15939 beginning on page 43512 in the issue of Thursday, June 27, 2002, make the following correction:

On page 43512, in the third column, under Federal Acquisition Circular, in the last line, “July 24, 2002” should read “July 29, 2002”.

[FR Doc. C2-15939 Filed 7-15-02; 8:45 am]

BILLING CODE 1505-01-D